DEPARTMENT OF HOMELAND SECURITY

[Docket No. DHS-2014-0010]

Infrastructure Assessments and Training

AGENCY: National Protection and Programs Directorate, DHS.

ACTION: 60-day notice and request for comments; Reinstatement, with change, of a previously approved collection: 1670-0009.

SUMMARY: The Department of Homeland Security (DHS), National Protection and Programs Directorate (NPPD), Office of Infrastructure Protection (IP), Infrastructure Information Collection Division (IICD), Infrastructure Protection Gateway (IP Gateway) Program will submit the following Information Collection Request to the Office of Management and Budget (OMB) for review and clearance in accordance with the Paperwork Reduction Act of 1995 (Pub. L. 104-13, 44 U.S.C. Chapter 35).

DATES: Comments are encouraged and will be accepted until November 23, 2015. This process is conducted in accordance with 5 CFR 1320.1.

ADDRESSES: Written comments and questions about this Information Collection Request should be forwarded to DHS/NPPD/IP/IICD, 245 Murray Lane SW., Mail Stop 0602, Arlington, VA 20598-0602. Emailed requests should go to Kimberly Sass, Kimberly.Sass@hq.dhs.gov. Written comments should reach the contact person listed no later than November 23, 2015. Comments must be identified by “DHS-2014-0010”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: Under the direction of Homeland Security Presidential Directive-7 (2003), Presidential Policy Directive -21, and the National Infrastructure Protection Plan (NIPP 2013); NPPD/IP has developed the IP Gateway, a centrally managed repository of infrastructure capabilities allowing the Critical Infrastructure community to work in conjunction with each other toward the same goals. This collection encompasses three IP Gateway functions: General User Registration, Chemical Security Awareness Training Registration, and a User Satisfaction Survey. Upon requesting access to the IP Gateway, the multi-screen registration form requests the user's full name, work address, contact information Protected Critical Infrastructure (PCII) training status, citizenship status, supervisor and sponsor information, and additional questions related to the user's role in using the information. Upon registering for Chemical Security Awareness Training, a collection form requests the trainee's desired username, password, proposed secret question & response, and company type, size, name, & location. For the voluntary User Satisfaction Survey, the collection form requests information regarding the user's job duties, types of information sought via the IP Gateway, access patterns, and system usability ratings. The survey information will be used to evaluate program and training performance as well as to gather any additional requirements for future IP Gateway system updates.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis:

Agency: Department of Homeland Security, National Protection and Programs Directorate, Office of Infrastructure Protection, Infrastructure Information Collection Division, Infrastructure Protection Gateway Program.

Title: Infrastructure Assessments and Training.

OMB Number: 1670-0009.

Frequency: Annually, quarterly, monthly, and weekly.

Affected Public: Chief Information Officers, Chief Information Security Officers, Chief Technology Officers, and federal and state, local, tribal and territorial communities involved in the protection of CI.

Number of Respondents: 9000 respondents (estimate).

Estimated Time per Respondent: .5 hours (estimate).

Total Burden Hours: 4,500 annual burden hours (estimate).

Total Burden Cost (capital/startup): $0.

Total Recordkeeping Burden: $0.

Total Burden Cost (operating/maintaining): $106,515.50 (estimate).

Dated: September 14, 2015.
Scott Libby,
Deputy Chief Information Officer, National Protection and Programs Directorate, Department of Homeland Security.

[FR Doc. 2015-24108 Filed 9-21-15; 8:45 am]

BILLING CODE 9110-9P-P